DEPARTMENT OF THE TREASURY

Submission for OMB Review; Comment Request

April 10, 2002.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before May 17, 2002, to be assured of consideration.

Internal Revenue Service (IRS)

OMB Number: 1545-0879.

Regulation Project Number: IA-195-78 Final.

Type of Review: Extension.

Title: Certain Returned Magazines, Paperbacks or Records.

Description: The regulations provide rules relating to an exclusion from gross income for certain returned merchandise. The regulations provide that in addition to physical return of the merchandise, a written statement listing certain information may constitute evidence of the return. Taxpayers who receive physical evidence of the return may, in lieu of retaining physical evidence, retain documentary evidence of the return. Taxpayers in the trade or business of selling magazines, paperbacks, or records, who elect to use a certain method of accounting, are affected.

Respondents: Business or other for-profit.

Estimated Number of Recordkeepers: 19,500.

Estimated Burden Hours Per Respondent/Recordkeeper: 25 minutes.

Estimated Total Recordkeeping Burden: 8,125 hours.

OMB Number: 1545-1269.

Regulation Project Number: PS-7-90 Final.

Type of Review: Extension.

Title: Nuclear Decommissioning Fund Qualification Requirements.

Description: If a taxpayer requests, in connection with a request for a schedule of ruling amounts, a ruling as to the classification of certain unincorporated organizations, the taxpayer is required to submit a copy of the documents establishing or governing the organization.

Respondents: Business or other for-profit.

Estimated Number of Respondents: 50.

Estimated Burden Hours Per Respondent: 3 hours.

Frequency of Response: On occasion.

Estimated Total Reporting Burden: 150 hours.

OMB Number: 1545-1484.

Regulation Project Number: REG-242282-97 (formerly INTL-62-90, INTL-32-93, INTL-52-86 and INTL-52-94) Final.

Type of Review: Extension.

Title: General Revision of Regulations Relating to Withholding of Tax on Certain U.S. Source Income Paid to Foreign Persons and Related Collection, Refunds, and Credits; Revision of Information of Information Reporting and Backup Withholding Regulations; and Removal of Regulations Under Part 35a and of Certain Regulations Under Income Tax Treaties.

Description: The regulations are needed to provide guidance relating to the withholding of income of nonresident alien individuals and foreign corporations.

Respondents: Business or other for-profit, Individuals or households, Not-for-profit institutions, Farms, Federal Government, State, Local or Tribal Government.

Estimated Number of Respondents/Recordkeepers: 1.

Estimated Burden Hours Per Respondent/Recordkeeper: 1 hour.

Frequency of Response: On occasion.

Estimated Total Reporting/Recordkeeping Burden: 1 hour.

OMB Number: 1545-1581.

Regulation Project Number: REG-209485-86 Final.

Type of Review: Extension.

Title: Continuation Coverage Requirements Applicable to Group Health Plans.

Description: The statute and the regulations require group health plans to provide notices to individuals who are entitled to elect the Consolidated Omnibus Budget Reconciliation Act of 1985 (COBRA) continuation coverage of their election rights. Individuals who wish to obtain the benefits provided under the statute are required to provide plans notices in the cases of divorce from the covered employee, a dependent child's ceasing to be a dependent under the terms of the plan, and disability. Most plans will require that elections of COBRA continuation coverage be made in writing. In cases where qualified beneficiaries are short by an insignificant amount in a payment made to the plan, the regulations require the plan to notify the qualified beneficiary if the plan does not wish to treat the tendered payment as full payment. If a health care provider contacts a plan to confirm coverage of a qualified beneficiary, the regulations require that the plan disclose the qualified beneficiary's complete rights to coverage.

Respondents: Business or other for-profit, Individuals or households, Not-for-profit institutions.

Estimated Number of Respondents: 1,800,000.

Estimated Burden Hours Per Respondent: 14 minutes.

Frequency of Response: On occasion.

Estimated Total Reporting Burden: 404,640 hours.

OMB Number: 1545-1646.

Regulation Project Number: REG-209060-86 Final.

Type of Review: Extension.

Title: Return Requirement for United States Persons Who Acquire or Dispose of an Interest in a Foreign Partnership, or Whose Proportional Interest in a Foreign Partnership Changes Substantially.

Description: Section 6046A requires U.S. persons to provide certain information with respect to the acquisition or disposition of a 10-percent interest in, or a 10-percent change in ownership of, a foreign partnership. This regulation provides reporting rules to identify U.S. persons with significant interests in foreign partnerships to ensure the correct reporting of items with respect to these interests.

Respondents: Business or other for-profit, Individuals or households, Not-for-profit institutions.

Estimated Number of Respondents: 1.

Estimated Burden Hours Per Respondent: 89 hours, 15 minutes (For Form 8865).

Frequency of Response: On occasion, Annually.

Estimated Total Reporting Burden: 1 hour.

Clearance Officer: Glenn P. Kirkland, Internal Revenue Service, Room 6411, 1111 Constitution Avenue, NW., Washington, DC 20224.

OMB Reviewer: Alexander T. Hunt, Office of Management and Budget, Room 10202, New Executive Office Building, Washington, DC 20503, (202) 395-7860.

Mary A. Able,
Departmental Reports Management Officer.

[FR Doc. 02-9320 Filed 4-16-02; 8:45 am]

BILLING CODE 4830-01-P